DEPARTMENT OF STATE

[Public Notice 8904]

In the Matter of the Designation of Jaish al-Muhajireen wal-Ansar, Also Known as Katiba al-Muhajireen, Also Known as Jaish al-Muhajireen wa Ansar, Also Known as Kateeb al Muhajireen wal Ansar, Also Known as Brigade of the Emigrants and Helpers, Also Known as Army of the Emigrants and Helpers, Also Known as Jaysh al-Muhajirin wal-Ansar, Also Known as Jaysh al-Muhajirin and al-Ansar Army, Also Known as Al-Muhajirin Brigade, Also Known as Muhajirin and Ansar Army, Also Known as Army of Foreign Fighters and Supporters as a Specially Designated Global Terrorist Pursuant to Section 1(b) of Executive Order 13224, as Amended

Acting under the authority of and in accordance with section 1(b) of Executive Order 13224 of September 23, 2001, as amended by Executive Order 13268 of July 2, 2002, and Executive Order 13284 of January 23, 2003, I hereby determine that the individual known as Jaish al-Muhajireen wal-Ansar, also known as Katiba al-Muhajireen, also known as Jaish al-Muhajireen wa Ansar, also known as Kateeb al Muhajireen wal Ansar, also known as Brigade of the Emigrants and Helpers, also known as Army of the Emigrants and Helpers, also known as Jaysh al-Muhajirin wal-Ansar, also known as Jaysh al-Muhajirin and al-Ansar Army, also known as Al-Muhajirin Brigade, also known as Muhajirin and Ansar Army, also known as Army of Foreign Fighters and Supporters, committed, or poses a significant risk of committing, acts of terrorism that threaten the security of U.S. nationals or the national security, foreign policy, or economy of the United States.

Consistent with the determination in section 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: September 23, 2014.
John F. Kerry,
Secretary of State.

[FR Doc. 2014-23935 Filed 10-6-14; 8:45 am]

BILLING CODE 4710-10-P